COMMITTEE FOR PURCHASE FROM PEOPLE WHO ARE BLIND OR SEVERELY DISABLED

Procurement List; Proposed Additions and Deletion

AGENCY: Committee for Purchase From People Who Are Blind or Severely Disabled

ACTION: Proposed Additions to and Deletion from Procurement List

SUMMARY: The Committee is proposing to add to the Procurement List commodities and services to be furnished by nonprofit agencies employing persons who are blind or have other severe disabilities, and to delete commodity previously furnished by such agencies.

Comments Must Be Received on or Before: February 5, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Chalkboard

6910-04-000-4482

6910-04-000-4485

NPA: Tuscola County Community Mental Health Services, Caro, Michigan

Undershirt, White

8420-00-543-6645

8420-00-543-6647

8420-00-543-6648

8420-00-543-6649

8420-00-543-6650

NPA: BESB Industries, West Hartford, Connecticut

Services

Base Supply Center, Fort Buchanan, Fort Buchanan, PR

NPA: Winston-Salem Industries for the Blind, Winston-Salem, North Carolina

Janitorial/Custodial

Redstone Arsenal, Basewide, Redstone Arsenal, AL

NPA: Huntsville Rehabilitation Foundation, Huntsville, Alabama

Janitorial/Custodial

Federal Building, 1520 Market Street, St. Louis, Missouri

NPA: MGI Services Corporation, St. Louis, Missouri

Janitorial/Custodial

Lewiston-Queenston and Whirlpool Rapids Bridges, Niagara Falls, New York

NPA: Niagara Frontier Vocational Rehab Center, Inc., Buffalo, New York

Janitorial/Grounds Maintenance

Volpe National Transportation Systems Center, 55 Broadway, Cambridge, Massachusetts

NPA: Work, Incorporated, North Quincy, Massachusetts

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodity has been proposed for deletion from the Procurement List:

Commodities

Kit, Computer Maintenance

7035-01-452-9086

7045-01-315-0850

7045-01-450-8599

Louis R. Bartalot,
Deputy Director (Operations).

[FR Doc. 01-352 Filed 1-4-01; 8:45 am]

BILLING CODE 6353-01-P